NUCLEAR REGULATORY COMMISSION

[NRC-2008-0439]

Office of New Reactors; Final Interim Staff Guidance on Evaluation and Acceptance Criteria for 10 CFR 20.1406 To Support Design Certification and Combined License Applications

AGENCY: Nuclear Regulatory Commission (NRC).

ACTION: Notice of availability.

SUMMARY: The NRC is issuing its Final Interim Staff Guidance (ISG) DC/COL-ISG-06 (Agencywide Documents Access and Management System (ADAMS) Accession No. ML092470100). The purpose of this ISG is to clarify NRC position on what is an acceptable level of detail and content for demonstrating compliance with Title 10 of the Code of Federal Regulations, Section 20.1406 (10 CFR 20.1406). Regulatory Guide 4.21, “Minimization of Contamination and Waste Generation: Life Cycle Planning,” provides an acceptable method of demonstrating compliance. This ISG provides further clarification on the evaluation and acceptance criteria that will be used by NRC staff in reaching a reasonable assurance finding that a design certification (DC) or combined license (COL) applicant has complied with the requirements of 10 CFR 20.1406. The NRC staff issues DC/COL-ISGs to facilitate timely implementation of current staff guidance and to facilitate activities associated with review of applications for DCs and COLs by the Office of New Reactors. The NRC staff will also incorporate the approved DC/COL-ISG-06 into the next revision of the SRP and related guidance documents.

DISPOSITION: On July 31, 2008, the staff issued the proposed ISG “Evaluation and Acceptance Criteria for 10 CFR 20.1406 to Support Design Certification and Combined License Applications,” (DC/COL-ISG-06) (ADAMS Accession No. ML081850160). There were no comments received on the proposed ISG. At a March 12, 2009 public meeting with Nuclear Energy Institute (NEI) to discuss Health Physics Issues for New Reactors (ADAMS Accession No. ML090890093), the staff provided copies of draft Revision 7 of “Interim Staff Guidance for Evaluation and Acceptance Criteria for 10 CFR 20.1406 to Support Design Certification and Combined License Applications” (ADAMS Accession No. ML090640183) to NEI and requested input back by April 3, 2009. Some of the comments received (ADAMS Accession No. ML090990781) were subsequently incorporated into this document. Staff responses to public comments on DC/COL-ISG-06 can be found in ADAMS as Accession Number ML092740151.

ADDRESSES: The NRC maintains ADAMS which provides text and image files of NRC's public documents. These documents may be accessed through the NRC's Public Electronic Reading Room on the Internet at http://www.nrc.gov/reading-rm/adams.html. Persons who do not have access to ADAMS or who encounter problems in accessing the documents located in ADAMS should contact the NRC Public Document reference staff at 1-800-397-4209, 301-415-4737, or by e-mail at pdr.resource@nrc.gov.

FOR FURTHER INFORMATION CONTACT: Mr. Timothy J. Frye, Chief, Health Physics Branch, Division of Construction Inspection and Operational Programs, Office of the New Reactors, U.S. Nuclear Regulatory Commission, Washington, DC 20555-0001; telephone at 301-415-3900 or e-mail at timothy.frye@nrc.gov.

SUPPLEMENTARY INFORMATION: The agency posts its issued staff guidance in the agency external Web page (http://www.nrc.gov/reading-rm/doc-collections/isg/).

Dated at Rockville, Maryland, this 2nd day of October 2009.
For the Nuclear Regulatory Commission.
George M. Tartal,
Acting Branch Chief, Rulemaking and Guidance Development Branch, Division of New Reactor Licensing, Office of New Reactors.

[FR Doc. E9-24424 Filed 10-8-09; 8:45 am]

BILLING CODE 7590-01-P